DEPARTMENT OF HOMELAND SECURITY

Coast Guard

[Docket No. USCG-2010-0164]

National Boating Safety Advisory Council

AGENCY: Coast Guard, DHS.

ACTION: Notice of Federal Advisory Committee Meeting.

SUMMARY: The National Boating Safety Advisory Council (NBSAC) will meet on April 13-14, 2012, in Arlington, Virginia, to discuss issues relating to recreational boating safety. The meetings will be open to the public.

DATES: NBSAC will meet Friday, April 13, 2012, from 8 a.m. to 1:30 p.m. and Saturday, April 14, 2012, from 1:30 p.m. to 3:30 p.m. The Recreational Boating Safety Strategic Planning Subcommittee will meet on Friday, April 13, 2012 from 1:30 p.m. to 3:45 p.m., the Boats and Associated Equipment Subcommittee will meet on Friday, April 13, 2012 from 3:45 p.m. to 3:15 p.m. and on Saturday, April 14, 2012 from 8:10 a.m. to 10 a.m., and the Prevention through People Subcommittee will meet on Saturday, April 14, 2012 from 10:15 a.m. to 12 p.m. Please note that the meetings may conclude early if NBSAC has completed all business.

All written materials, comments, and requests to make oral presentations at the meeting should reach Mr. Jeff Ludwig, Assistant Designated Federal Officer (ADFO) for NBSAC by March 28, 2012. Any written material submitted by the public will be distributed to the committee and become part of the public record.

ADDRESSES: The meeting will be held in the Ballroom at the Holiday Inn Arlington, 4610 N. Fairfax Drive, Arlington, VA 22203. The hotel's Web site is: http://www.hiarlington.com/.

For information on facilities or services for individuals with disabilities or to request special assistance at the meeting, contact Mr. Jeff Ludwig as soon as possible.

To facilitate public participation, we are inviting public comment on the issues to be considered by the committee as listed in the “Agenda” section below. Comments must be submitted in writing no later than March 28, 2012, and must be identified by (USCG-2010-0164) and may be submitted by one of the following methods:

• Federal eRulemaking Portal: http://www.regulations.gov.

Follow the instructions for submitting comments.

• Fax: (202) 372-1908.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding public dockets in the January 17, 2008, issue of the Federal Register (73 FR 3316).

Docket: For access to the docket to read documents or comments related to this notice, go to http://www.regulations.gov, and use “USCG-2010-0164” as your search term.

A public comment period will be held during the meeting concerning the matters being discussed. Public comments will be limited to three minutes per speaker. Please note that the public comment period may end before the time indicated, following the last call for comments. Contact the individual listed below to register as a speaker.

FOR FURTHER INFORMATION CONTACT: Mr. Jeff Ludwig, ADFO for NBSAC, COMDT (CG-54221), 2100 2nd Street, SW., Stop 7581, Washington, DC 20593; (202) 372-1061; jeffrey.a.ludwig@uscg.mil. If you have questions on viewing or submitting material to the docket, call Renee V. Wright, Program Manager, Docket Operations, telephone 202-366-9826.

SUPPLEMENTARY INFORMATION: Notice of this meeting is given under the Federal Advisory Committee Act (FACA), 5 U.S.C. Appendix 2. Congress established NBSAC in the Federal Boat Safety Act of 1971 (Pub. L. 92-75). NBSAC currently operates under the authority of 46 U.S.C. 13110, which requires the Secretary of Homeland Security, and the Commandant of the Coast Guard by delegation, to consult with NBSAC in prescribing regulations for recreational vessels and associated equipment, and on other major safety matters. See 46 U.S.C. 4302(c) and 13110(c).

Meeting Agenda

The agenda for NBSAC meeting is as follows:

Friday, April 13, 2012

(1) Opening Remarks—Mr. James P. Muldoon, NBSAC Chairman and CAPT Paul Thomas, USCG Director of Prevention Policy (Acting);

(2) Receipt and discussion of the following reports:

(a) Chief, Office of Auxiliary and Boating Safety Update on NBSAC Resolutions and Recreational Boating Safety Program report.

(b) Assistant Designated Federal Officer's report concerning Council administrative and logistical matters.

(3) Presentation on Progress Made on Recommendation Regarding the Development of New Life Jacket Standards and Approval Processes for Life Jackets.

(4) Presentation on the Uniform Certificate of Title Act for Vessels (model state legislation on vessel registration).

(5) Presentation on the initial results of the National Recreational Boating Survey.

(6) Public comment.

Saturday, April 14, 2012

(1) Receipt and Discussion of the Strategic Planning, Boats & Associated Equipment, and Prevention Through People Subcommittee reports.

(2) Public comment.

A more detailed agenda can be found at: http://homeport.uscg.mil/NBSAC, no later than March 28, 2012.

Dated: March 16, 2012.
Paul F. Thomas,
Captain, U.S. Coast Guard, Acting Director of Prevention Policy.

[FR Doc. 2012-6983 Filed 3-22-12; 8:45 am]

BILLING CODE 9110-04-P